SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes new information collections, revisions to OMB-approved information collections and extensions (no change) of OMB-approved information collections.

SSA is soliciting comments on the accuracy of the Agency's burden estimate; the need for the information; its practical utility; ways to enhance its quality, utility, and clarity; and ways to minimize the burden on respondents, including the use of automated collection techniques or other forms of information technology. Mail, email, or fax your comments and recommendations on the information collection(s) to the OMB Desk Officer and the SSA Reports Clearance Officer to the addresses or fax numbers listed below.

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235,

Fax: 410-965-6400,

E-mail address: OPLM.RCO@ssa.gov.

I. The information collections listed below are pending at SSA. SSA will submit them to OMB within 60 days from the date of this notice. Therefore, submit your comments to SSA within 60 days from the date of this publication. You can obtain copies of the collection instruments by calling the SSA Reports Clearance Officer at 410-965-0454 or by writing to the address listed above.

1. Farm Arrangement Questionnaire—20 CFR 404.1082(c)—0960-0064. When self-employed workers submit earnings data to SSA, they cannot count rental income from a farm unless they demonstrate “material participation” in the farm's operation. A material participation arrangement means the farm owners who are seeking to have earnings counted by SSA must perform a combination of physical duties, management decisions, and capital investment in the farm they are renting out. In such cases, SSA uses form SSA-7157, the Farm Arrangement Questionnaire, to document material participation. The respondents are workers who are renting farmland to other people and who are involved in the operation of the farm and want to claim countable income from their work there.

Type of Request: Extension of an OMB-approved information collection

Number of Respondents: 38,000.

Frequency of Response: 1.

Average Burden Per Response: 30 minutes.

Estimated Annual Burden: 19,000 hours.

2. Application for Benefits under a U.S. International Social Security Agreement—20 CFR 404.1925—0960-0448. When SSA enters into international Social Security agreements between the United States and foreign countries, applicants can file for benefits from one country. This can constitute an application for benefits from the other country, provided the applicants express the intent to claim benefits from the other country at the time of the initial application. SSA refers to these agreements as Totalization agreements. SSA uses Form SSA-2490-BK to collect information to determine eligibility for Social Security benefits from the United States or from a country that has entered into a Social Security agreement with the United States. The respondents are individuals who are applying for old-age, survivors or disability benefits from the U.S. or from a Totalization agreement country.

Type of Request: Extension of an OMB-approved information collection.

Number of Respondents: 26,700.

Frequency of Response: 1.

Average Burden Per Response: 30 minutes.

Estimated Average Burden: 13,350 hours.

3. Statement Regarding Date of Birth and Citizenship—20 CFR 404.716—0960-0016. SSA uses Form SSA-702 to obtain information when preferred or other evidence is not available to prove age or citizenship for an individual applying for Social Security benefits. SSA uses this information to establish age as a factor of entitlement or U.S. citizenship as a payment factor. Respondents are individuals with knowledge about the date of birth and/or citizenship of applicants who need to establish these factors of entitlement for payment of benefits.

Type of Request: Revision of an OMB-approved information collection.

Number of Respondents: 1,200.

Frequency of Response: 1.

Average Burden Per Response: 10 minutes.

Estimated Annual Burden: 200 hours.

4. Plan for Achieving Self-Support—20 CFR 416.110(e), 416.1180-1182, 416.1225-1227—0960-0559. A Supplemental Security Income (SSI) applicant/recipient who uses available income and resources to obtain education and/or training to become self-supportive must develop a plan to achieve self-support using Form SSA-545. SSA uses this information to evaluate the recipient's plan and to determine eligibility under the provisions of the SSI program. The respondents are SSI applicants/recipients who are blind or disabled and want to develop a plan to go to work.

Type of Request: Extension of an OMB-approved information collection.

Number of Respondents: 7,000.

Frequency of Response: 1.

Average Burden Per Response: 2 hours.

Estimated Annual Burden: 14,000 hours.

II. SSA has submitted the information collections listed below. Your comments on the information collections will be most useful if OMB and SSA receive them within 30 days from the date of this publication. You can request a copy of the information collections by e-mail, OPLM.RCO@ssa.gov, fax 410-965-6400, or by calling the SSA Reports Clearance Officer at 410-965-0454.

1. Statement Regarding Marriage, 20 CFR 404.726—0960-0017. Some State laws recognize marriages entered into without a ceremony (common-law marriages). SSA uses Form SSA-753 to obtain third party statements about intent and cohabitation, which are the basic tenets of a common-law marriage. SSA uses the information to determine if a valid marital relationship exists for entitlement to spouse/widow(er) benefits. The respondents are third party individuals/households.

Type of Request: Extension of an OMB-approved information collection.

Number of Respondents: 40,000.

Frequency of Response: 1.

Average Burden Per Response: 9 minutes.

Estimated Average Burden: 6,000 hours.

2. Statement Regarding Contributions, 20 CFR 404.360-.366; 20 CFR 404.736—0960-0020. SSA uses the Form SSA-783 to obtain information about the source of support for a child applicant who must meet a dependency requirement for benefits. SSA must determine if one-half support or regular and substantial contributions entitle certain child applicants to Social Security benefits. The respondents are persons with information on sources of a child applicant's support.

Type of Request: Extension of an OMB-approved information collection.

Number of Respondents: 30,000.

Frequency of Response: 1.

Average Burden Per Response: 17 minutes.

Estimated Annual Burden: 8,500 hours.

3. Questionnaire for Children Claiming Supplemental Security Income (SSI) Benefits—0960-0499. SSA uses Form SSA-3881 to obtain the names and addresses of non-medical sources such as schools, counselors, agencies, organizations, or therapists who have information about how well the child functions. SSA uses this information to help determine a child's claim for benefits or continuing benefits. The respondents are applicants who appeal SSI childhood disability decisions or recipients undergoing a continuing disability review.

Type of Request: Extension of an OMB-approved information collection.

Number of Respondents: 253,000.

Frequency of Response: 1.

Average Burden Per Response: 30 minutes.

Estimated Annual Burden: 126,500 hours.

4. Statement of Death by Funeral Director, 20 CFR 404.715, 404.720—0960-0142. SSA uses the information collected on Form SSA-721 to: (1) Prove the death of an insured individual; (2) learn of the death of a beneficiary whose benefits should terminate; and (3) determine who is eligible for the lump-sum death payment or may be eligible for benefits. The respondents are funeral directors who report the death of a beneficiary.

Type of Request: Extension of an OMB-approved information collection.

Number of Respondents: 319,811.

Frequency of Response: 1.

Average Burden Per Response: 3.5 minutes.

Estimated Annual Burden: 18,656 hours.

5. Representative Payee Report-Adult, Representative Payee Report-Child, Representative Payee Report-Organizational Representative Payees,—0960-0068. When SSA determines it is not in a beneficiary's best interest to receive Social Security benefit payments directly, the Agency will designate a family member, unrelated person, or organization to act as the representative payee for the beneficiary. Representative payees must account to SSA on how they use these payments on their beneficiaries' behalf. SSA collects this information on Forms SSA-623 (for adult beneficiaries), SSA-6230 (for child beneficiaries), and SSA-6234 (organizational repayees). This information collection request contains two changes to the collection: (1) we are clearing an Internet version of the Representative Payee Report (iRPA), an Internet platform customized for users of all three paper forms; and (2) we are clearing all three paper forms under one OMB Number, 0960-0068.

Type of Request: Revision to an OMB-approved information collection.

Collection instruments | Number of respondents | Frequency of response | Average burden per response (minutes) | Estimated annual burden (hours)
SSA-623 (paper) | 2,093,125 | 1 | 15 | 523,281
SSA-6230 (paper) | 2,592,500 | 1 | 15 | 648,125
SSA-6234 (paper) | 626,875 | 1 | 15 | 156,719
iRPA | 937,500 | 1 | 15 | 234,375
Totals | 6,250,000 |  |  | 1,562,500

Dated: June 25, 2008.
Elizabeth A. Davidson,
Reports Clearance Officer, Social Security Administration.

[FR Doc. E8-14885 Filed 6-30-08; 8:45 am]

BILLING CODE 4191-02-P